DEPARTMENT OF COMMERCE

Bureau of the Census

15 CFR Part 30

[Docket Number 041029301-4301-01]

RIN 0607-AA44

Requirement for Reporting the Kimberley Process Certificate Number for Exports (Reexports) of Rough Diamonds

AGENCY: Bureau of the Census, Commerce Department.

ACTION: Notice of proposed rulemaking and request for comments.

SUMMARY: The U.S. Census Bureau (Census Bureau) proposes to amend the Foreign Trade Statistics Regulations (FTSR) to incorporate the requirement for reporting the Kimberley Process Certificate (KPC) number for the exports (reexports) of rough diamonds filed through the Automated Export System (AES) in accordance with the Clean Diamond Trade Act. This rule would serve to carry out the purposes of Executive Order 13312 of July 29, 2003, which implemented the Clean Diamond Trade Act and the Kimberley Process Certification Scheme in the United States.

DATES: Submit written comments on or before February 11, 2005.

ADDRESSES: Please direct all written comments on this proposed rule to the Director, U.S. Census Bureau, Room 2049, Federal Building 3, Washington, DC 20233. You may also submit comments, identified by RIN number, to the Federal e-Rulemaking Portal: http://www.regulations.gov. Please follow the instructions at that site for submitting comments.

FOR FURTHER INFORMATION CONTACT: C. Harvey Monk, Jr., Chief, Foreign Trade Division, U.S. Census Bureau, Room 2104, Federal Building 3, Washington, DC 20233-6700, by phone at (301) 763-2255, by fax at (301) 457-2645, or by e-mail: c.harvey.monk.jr@census.gov.

SUPPLEMENTARY INFORMATION:

Background

On July 29, 2003, the President issued Executive Order 13312, which implemented Public Law 108-19, known as the Clean Diamond Trade Act (the Act). The Act implemented the Kimberley Process in the United States by authorizing the President to prohibit the importation into or the exportation from the United States of any rough diamond, from whatever source, unless the rough diamond is controlled through the Kimberley Process Certification Scheme, as defined in the Act. This means shipments of rough diamonds between the United States and nonparticipants in the Kimberley Process are prohibited, and shipments between the United States and participants are permitted only if they are handled in accordance with the standards, practices, and procedures of the Kimberley Process set forth in the Rough Diamonds Control Regulations, 31 CFR part 592, promulgated by the Department of the Treasury's Office of Foreign Assets Control (OFAC) (see 69 FR 56936 dated September 23, 2004).

Section 6 of the Act names the Census Bureau as the exporting authority for the United States. This requires the Census Bureau to validate the KPC for exports of rough diamonds. The KPC is a forgery-resistant document of a participant nation or entity that demonstrates that an exportation of rough diamonds has been controlled through the Kimberley Process and contains the minimum elements required by OFAC regulations (31 CFR part 592). Each KPC is assigned an identification number called the KPC number.

To comply with the requirements of the Act, the Census Bureau amended the FTSR on October 20, 2003, to incorporate requirements for the mandatory electronic filing via the AES of exports of rough diamonds. The Census Bureau proposes to amend the FTSR to require the reporting through AES of the KPC number found on the KPC for all exports of rough diamonds classified under Harmonized System subheadings 7102.10, 7102.21, and 7102.31. This requirement will not affect filers of Shipper's Export Declarations since all exports of rough diamonds are required to be filed through the AES.

Shipments of rough diamonds from the United States must also meet additional Department of the Treasury requirements identified in the Office of Foreign Assets Control's Rough Diamonds Control Regulations, Title 31, CFR, Part 592.

To further the implementation of the Clean Diamonds Trade Act and Executive Order 13312, which implements the Act, the Census Bureau proposes to amend § 30.63 of the FTSR to specify the requirement for reporting the KPC number via the AES for exports of rough diamonds.

The Departments of State, the Treasury, and Homeland Security concur with the provisions contained in this notice of proposed rulemaking.

Rulemaking Requirements

Regulatory Flexibility Act

The Chief Counsel for Regulation of the Department of Commerce certified to the Chief Counsel for Advocacy of the Small Business Administration (SBA) that this rule will not have significant impact on a substantial number of small entities. This action would require that U.S. Principal Parties in Interest (USPPIs) or authorized agents in the United States report the KPC number along with current data filing requirement to the AES. Only those USPPIs or agents filing information on exports of rough diamonds would be required to report the KPC number. The SBA's table of size standards indicates that businesses that are the USPPI or authorized agent and file export information are considered small businesses if they employ less than 500 people.

The Census Bureau estimates that approximately 1,600 shipments of rough diamonds classified under Harmonized System subheadings 7102.10, 7102.21, and 7102.31 were exported from the United States in 2003. There were on average 47 exporters exporting rough diamonds each month during 2003. This number of exporters reflects those companies that actually exported rough diamonds. We do not know the total population of exporters of rough diamonds. Of the total number of rough diamond exporters, the number that are small entities also is unknown. The Census Bureau estimates that it will take 7 seconds to report the KPC number in AES, which is 10 total burden hours on all exporters. Because the new requirement imposes only a small burden on affected entities, this rule would not have a significant economic impact on a substantial number of small entities. Accordingly, a regulatory flexibility analysis is not required and has not been prepared.

Executive Orders

This rule has been determined to be not significant for purposes of Executive Order 12806. It has been determined that this rule does not contain policies with Federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current, valid Office of Management and Budget (OMB) control number. This rule contains a collection-of-information subject to the requirements of the PRA (44 U.S.C. 3501 et seq.) and that has been approved under OMB control number 0607-0152. Since the KPC number is readily available to the exporting company and the number of exporting companies affected by this revision is small, there will only be a minimal net increase (estimated at 10 total burden hours) in respondent burden. We will request OMB to approve this respondent burden increase.

List of Subjects in 15 CFR Part 30

Economic statistics, Foreign trade, Exports, Reporting and recordkeeping requirements.

For the reasons set out in the preamble, Title 15 CFR part 30, is proposed to be amended as follows:

PART 30—FOREIGN TRADE STATISTICS

1. The authority citation for part 30 continues to read as follows:

Authority: 5 U.S.C. 301; 13 U.S.C. 301-307; 19 U.S.C. 3901-3913; Reorganization Plan 5 of 1950 (3 CFR 1949-1953 Comp., 1004); E.O. 13312; and Department of Commerce Organization Order No. 35-2A, July 22, 1987, as amended, and No. 35-2B, December 20, 1996, as amended.

Subpart E—Electronic Filing Requirements—Shipper's Export Information

2. In § 30.63, add a paragraph (b)(22) to read as follows:

§ 30.63 Information required to be reported electronically through AES (data elements).

* * * * *

(b) * * *

(22) Kimberley Process Certificate (KPC) number. The unique identifying number of the KPC issued by the United States Kimberley Process Authority that must accompany any export shipment of rough diamonds. Rough diamonds are classified under 6-digit Harmonized System subheadings 7102.10, 7102.21, and 7102.31. Enter the KPC number in the license number field excluding the 2-digit U.S. ISO country code.

* * * * *

Dated: January 7, 2005.
Charles Louis Kincannon,
Director, Bureau of the Census.

[FR Doc. 05-597 Filed 1-11-05; 8:45 am]

BILLING CODE 3510-07-P